DEPARTMENT OF COMMERCE

National Oceanic and Atmospheric Administration

[I.D. 101000D]

Raised Footrope Whiting Trawl Exemption Requests and Notifications

AGENCY: National Oceanic and Atmospheric Administration (NOAA).

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 15, 2000.

ADDRESSES:

Direct all written comments to Madeleine Clayton, Departmental Forms Clearance Officer, Department of Commerce, Room 6086, 14th and Constitution Avenue NW, Washington DC 20230 (or via Internet at MClayton@doc.gov).

FOR FURTHER INFORMATION CONTACT: Requests for additional information or copies of the information collection instrument(s) and instructions should be directed to Peter Christopher, NMFS, 1 Blackburn Drive, Gloucester, MA 01930 (phone 978-281-9288).

SUPPLEMENTARY INFORMATION:

I. Abstract

The Massachusetts Division of Marine Fisheries has been conducting an experimental fishery, referred to as the Raised Footrope Whiting Trawl Experimental Fishery (Raised Footrope Experiment), to allow trawlers to target whiting, red hake, dogfish and other small mesh species using a raised footrope trawl. The experiment was designed to assess the effectiveness of a raised footrope small mesh otter trawl in reducing bycatch of regulated multispecies. Framework Adjustment 35 to the Multispecies Fishery Management Plan made the Raised Footrope Experiment a multispecies exempted fishery. The collection-of-information requirements are: (1) a request for a certificate to fish in the Raised Footrope Whiting Trawl Exemption, and (2) a notification of intention to withdraw from the Raised Footrope Whiting Trawl Exemption. Requests for a certificate identify the person, the vessel name, the permit number, and how long he/she intends to fish in the exemption area (no less than 7 days but not more than 4 months). These collection-of-information requirements were approved by OMB under emergency procedures for 6 months; NOAA is soliciting comments on its intent to request a 3-year Paperwork Reduction Act approval for the requirements.

II. Method of Collection

Requests and notifications are made by telephone.

III. Data

OMB Number: 0648-0422.

Form Number: None.

Type of Review: Regular submission.

Affected Public: Business and other for-profit (commercial fishermen) organizations.

Estimated Number of Respondents: 288.

Estimated Time Per Response: 2 minutes.

Estimated Total Annual Burden Hours: 230 hours.

Estimated Total Annual Cost to Public: $27.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: October 6, 2000.
Madeleine Clayton,
Departmental Forms Clearance Officer, Office of the Chief Information Officer.

FR Doc. 00-26406 Filed 10-13-00; 8:45 am]

BILLING CODE 3510-22-S